DEPARTMENT OF HOUSING AND URBAN DEVELOPMENT

[Docket No. FR-4950-FA-19]

Announcement of Funding Awards for the Section 202 Supportive Housing for the Elderly Program Fiscal Year 2005

AGENCY: Office of the Assistant Secretary for Housing—Federal Housing Commissioner, HUD.

ACTION: Notice of funding awards.

SUMMARY: In accordance with section 102(a)(4)(C) of the Department of Housing and Urban Development Reform Act of 1989, this announcement notifies the public of funding decisions made by the Department in a competition for funding under the Super Notice of Funding Availability (SuperNOFA) for the Section 202 Supportive Housing For the Elderly Program. This announcement contains the names of the awardees and the amounts of the awards made available by HUD.

FOR FURTHER INFORMATION CONTACT: Mr. Willie Spearmon, Director, Office of Housing Assistance and Grant Administration, 451 Seventh Street, SW., Washington, DC 20410-8000; telephone (202) 708-3000 (this is not a toll-free number). Hearing- and speech-impaired persons may access this number via TTY by calling the Federal Relay Service toll-free at (800) 877-8339. For general information on this and other HUD programs, visit the HUD Web site at http://www.hud.gov.

SUPPLEMENTARY INFORMATION: The Section 202 Supportive Housing for the Elderly Program is authorized by Section 202 of the Housing Act of 1959 (12 U.S.C. 1701q), as amended by section 801 of the Cranston-Gonzalez National Affordable Housing Act (Pub. L 101-625; approved November 28, 1990); the Housing and Community Development Act of 1992 (Pub. L. 102-550; approved October 28, 1992); the Recessions Act (Pub. L. 104-19; enacted on July 27, 1995); the American Homeownership and Economic Opportunity Act of 2000 (Pub. L. 106-569; approved December 27, 2000); and the Consolidated Appropriations Act, 2005 (Pub. L. 108-447, approved December 8, 2004). The competition was announced in the SuperNOFA published in the Federal Register on March 21, 2005. Applications were rated and selected for funding on the basis of selection criteria contained in that Notice.

The Catalog of Federal Domestic Assistance number for this program is 14.157.

The Section 202 program is the Department's primary program for providing affordable housing for the elderly that allows them to live independently with supportive services. Under this program, HUD provides funds to private non-profit organizations to develop supportive housing for the elderly. Funds are also provided to subsidize the expenses to operate the housing projects.

A total of $574,806,700 was awarded to 130 projects for 4,719 units nationwide. In accordance with section 102(a)(4)(C) of the Department of Housing and Urban Development Reform Act of 1989 (103 Stat. 1987, 42 U.S.C. 3545), the Department is publishing the grantees and amounts of the awards in Appendix A of this document.

Dated: October 11, 2006.
Brian Montgomery,
Assistant Secretary for Housing-Federal Housing Commissioner.

APPENDIX A—Awardees for the Section 202 Supportive Housing for the Elderly Program Fiscal Year 2005

Alabama

Birmingham, AL

Non-Profit Sponsor: AHEPA National Housing Corp

Capital Advance: $3,966,400

Five-year rental subsidy: $700,500

Number of units 50

Montgomery, AL

Non-Profit Sponsor: Capitol Heights Baptist Church

Capital Advance: $3,940,500

Five-year rental subsidy: $700,500

Number of units 50

Talladega, AL

Non-Profit Sponsor: Presbytery of Sheppards and Lapsley

Capital Advance: $1,382,600

Five-year rental subsidy: $252,500

Number of units 18

Arizona

Somerton, AZ

Non-Profit Sponsor: Housing America Corporation

Capital Advance: $4,480,500

Five-year rental subsidy: $654,500

Number of units 45

Arkansas

Bryant, AR

Non-Profit Sponsor: Bryant Methodist Services, Inc

Co-Sponsor: Pathfinder, Inc.

Capital Advance: $1,367,700

Five-year rental subsidy: $260,500

Number of units 20

Paragould, AR

Non-Profit Sponsor: White River Housing Development Corp.

Capital Advance: $1,299,300

Five-year rental subsidy: $247,500

Number of units 19

Russellville, AR

Non-Profit Sponsor: Friendship Community Care Inc

Capital Advance: $1,299,300

Five-year rental subsidy: $234,500

Number of units 19

California

Daly City, CA

Non-Profit Sponsor: Broadmoor Presbyterian Church

Co-Sponsor: ABHOW

Capital Advance: $5,004,300

Five-year rental subsidy: $1,084,000

Number of units 40

Long Beach, CA

Non-Profit Sponsor: Menorah Housing Foundation

Capital Advance: $8,239,700

Five-year rental subsidy: $1,464,500

Number of units 66

Manteca, CA

Non-Profit Sponsor: Eden Housing Inc

Capital Advance: $4,608,200

Five-year rental subsidy: $738,500

Number of units 40

Oceanside, CA

Non-Profit Sponsor: Southern California Presbyterian Homes

Capital Advance: $9,981,800

Five-year rental subsidy: $1,649,500

Number of units 80

Ontario, CA

Non-Profit Sponsor: Cooperative Services, Inc.

Capital Advance: $5,999,800

Five-year rental subsidy: $1,059,000

Number of units 48

Pomona, CA

Non-Profit Sponsor: TELACU

Capital Advance: $8,350,000

Five-year rental subsidy: $1,554,500

Number of units 70

San Francisco, CA

Non-Profit Sponsor: Mercy Housing California

Capital Advance: $12,626,500

Five-year rental subsidy: $2,639,500

Number of units 96

Walnut Creek, CA

Non-Profit Sponsor: Satellite Housing, Inc.

Capital Advance: $4,106,400

Five-year rental subsidy: $917,000

Number of units 33

Connecticut

Fairfield, CT

Non-Profit Sponsor: Mutual Housing Association of SW CT

Capital Advance: $1,288,400

Five-year rental subsidy: $213,500

Number of units 10

Niantic, CT

Non-Profit Sponsor: AHEPA National Housing Corp.

Capital Advance: $6,442,400

Five-year rental subsidy: $1,067,500

Number of units 50

Florida

Brandon, FL

Non-Profit Sponsor: Lutheran Social Services Florida, Inc.

Co-Sponsor: Lutheran Social Services of Michigan

Capital Advance: $5,503,700

Five-year rental subsidy: $722,500

Number of units 55

Miami, FL

Non-Profit Sponsor: Allapattah Community Action, Inc.

Capital Advance: $8,942,100

Five-year rental subsidy: $1,174,500

Number of units 80

Orlando, FL

Non-Profit Sponsor: Diocese of Orlando

Capital Advance: $9,150,000

Five-year rental subsidy: $1,037,500

Number of units 80

Pembroke Pines, FL

Non-Profit Sponsor: Miami Jewish Home & Hospital

Capital Advance: $5,796,700

Five-year rental subsidy: $773,000

Number of units 52

Georgia

Decatur, GA

Non-Profit Sponsor: Mercy Housing Southeast, Inc.

Capital Advance: $5,390,100

Five-year rental subsidy: $931,500

Number of units 66

Lawrenceville, GA

Non-Profit Sponsor: Broadway Towers, Inc.

Capital Advance: $3,418,900

Five-year rental subsidy: $602,000

Number of units 42

Reynolds, GA

Non-Profit Sponsor: Housing Devl. Corp. of Macon & Taylor

Capital Advance: $2,194,500

Five-year rental subsidy: $387,000

Number of units 28

Hawaii

Kihei, HI

Non-Profit Sponsor: Hale Mahaolu

Capital Advance: $933,200

Five-year rental subsidy: $106,000

Number of units 5

Kihei, HI

Non-Profit Sponsor: Hale Mahaolu

Capital Advance: $933,200

Five-year rental subsidy: $106,000

Number of units 5

Kihei, HI

Non-Profit Sponsor: Hale Mahaolu

Capital Advance: $933,200

Five-year rental subsidy: $106,000

Number of units 5

Kihei, HI

Non-Profit Sponsor: Hale Mahaolu

Capital Advance: $933,200

Five-year rental subsidy: $106,000

Number of units 5

Kihei, HI

Non-Profit Sponsor: Hale Mahaolu

Capital Advance: $933,200

Five-year rental subsidy: $106,000

Number of units 5

Kihei, HI

Non-Profit Sponsor: Hale Mahaolu

Capital Advance: $933,200

Five-year rental subsidy: $106,000

Number of units 5

Illinois

Carthage, IL

Non-Profit Sponsor: West Central Illinois Area Agency on Aging

Capital Advance: $961,400

Five-year rental subsidy: $180,500

Number of units 10

Chicago, IL

Non-Profit Sponsor: The Renaisasance Collaborative

Capital Advance: $9,600,400

Five-year rental subsidy: $1,260,500

Number of units 71

Cissna Park, IL

Non-Profit Sponsor: Cissna Park Comm Life Dev, Inc.

Capital Advance: $1,485,700

Five-year rental subsidy: $270,500

Number of units 16

Danville, IL

Non-Profit Sponsor: Lutheran Social Services of Illinois

Capital Advance: $2,292,000

Five-year rental subsidy: $450,500

Number of units 25

Hanna City, IL

Non-Profit Sponsor: Henry Home Association

Capital Advance: $3,336,100

Five-year rental subsidy: $648,500

Number of units 36

Rock Island, IL

Non-Profit Sponsor: Disciples Uniting in the Quad Cities, Inc.

Co-Sponsor: United Church Homes, Inc.

Capital Advance: $6,470,700

Five-year rental subsidy: $1,080,500

Number of units 60

Indiana

Bloomington, IN

Non-Profit Sponsor: Community Reinvestment Foundation, Inc.

Capital Advance: $2,040,700

Five-year rental subsidy: $389,000

Number of units 24

Indianapolis, IN

Non-Profit Sponsor: Light of The World Christian Church, Inc.

Capital Advance: $4,355,300

Five-year rental subsidy: $809,500

Number of units 50

Marion, IN

Non-Profit Sponsor: Community Reinvestment Foundation, Inc.

Capital Advance: $1,633,200

Five-year rental subsidy: $340,000

Number of units 21

Mentone, IN

Non-Profit Sponsor: Garden Court, Inc.

Capital Advance: $1,810,800

Five-year rental subsidy: $340,000

Number of units 21

Iowa

LeMars, IA

Non-Profit Sponsor: The Ev Luth Gd Samar Soc

Capital Advance: $1,546,100

Five-year rental subsidy: $177,500

Number of units 12

Marion, IA

Non-Profit Sponsor: Marion Churches Senior Living Community Foundation

Capital Advance: $2,696,100

Five-year rental subsidy: $281,000

Number of units 20

Kansas

Wichita, KS

Non-Profit Sponsor: Mental Health Assn of S Central Kansas, Inc.

Capital Advance: $2,375,100

Five-year rental subsidy: $380,000

Number of units 24

Kentucky

Louisa, KY

Non-Profit Sponsor: Mountain Housing Corporation

Capital Advance: $1,998,100

Five-year rental subsidy: $335,000

Number of units 23

Louisville, KY

Non-Profit Sponsor: Saint Michaels Antiochian Orthodox CH

Capital Advance: $1,401,900

Five-year rental subsidy: $243,500

Number of units 16

Louisville, KY

Non-Profit Sponsor: Catholic Charities of Louisville

Capital Advance: $2,628,700

Five-year rental subsidy: $456,500

Number of units 30

Louisiana

Balstrop, LA

Non-Profit Sponsor: Morehouse Council on Aging, Inc

Capital Advance: $988,200

Five-year rental subsidy: $168,500

Number of units 13

Eunice, LA

Non-Profit Sponsor: Community Development Inc

Capital Advance: $1,126,400

Five-year rental subsidy: $176,500

Number of units 14

Shreveport, LA

Non-Profit Sponsor: National Ch Residences Inc

Capital Advance: $4,538,800

Five-year rental subsidy: $784,500

Number of units 57

Maine

Bucksport, ME

Non-Profit Sponsor: Eastern Area Agency on Aging

Capital Advance: $3,504,900

Five-year rental subsidy: $461,500

Number of units 26

Topsham, ME

Non-Profit Sponsor: VOANNE

Capital Advance: $3,803,700

Five-year rental subsidy: $479,000

Number of units 28

Maryland

Owings Mills, MD

Non-Profit Sponsor: Associated Jewish Fed

Capital Advance: $8,732,900

Five-year rental subsidy: $1,744,500

Number of units 99

Massachusetts

Framningham, MA

Non-Profit Sponsor: Jewish Community Housing for the Elderly

Capital Advance: $6,740,300

Five-year rental subsidy: $1,133,000

Number of units 50

Spencer, MA

Non-Profit Sponsor: Mental Health Programs Inc

Capital Advance: $4,211,500

Five-year rental subsidy: $793,500

Number of units 36

Michigan

Battle Creek, MI

Non-Profit Sponsor: Presbyterian Villages of Michigan

Capital Advance: $3,751,000

Five-year rental subsidy: $664,500

Number of units 45

Detroit, MI

Non-Profit Sponsor: Cooperative Services Inc.

Co-Sponsor: Detroit Catholic Pastoral Alliance

Capital Advance: $6,354,900

Five-year rental subsidy: $1,107,500

Number of units 62

Hampton Township, MI

Non-Profit Sponsor: Presbyterian Villages of Michigan

Co-Sponsor: Lutheran Homes of Michigan Inc.

Capital Advance: $5,045,400

Five-year rental subsidy: $907,500

Number of units 51

Minnesota

Sartell, MN

Non-Profit Sponsor: Accessible Space, Inc.

Capital Advance: $4,355,800

Five-year rental subsidy: $758,000

Number of units 44

St. Paul, MN

Non-Profit Sponsor: Episcopal Corporation for the Elderly

Capital Advance: $5,311,400

Five-year rental subsidy: $863,500

Number of units 50

St. Paul, MN

Non-Profit Sponsor: Sholom Community Alliance

Capital Advance: $4,759,700

Five-year rental subsidy: $793,000

Number of units 45

Missouri

Hermitage, MO

Non-Profit Sponsor: West Central Missouri Community Action Agency

Capital Advance: $2,256,800

Five-year rental subsidy: $380,000

Number of units 23

Pagedale, MO

Non-Profit Sponsor: Retirement Housing Foundation

Capital Advance: $4,754,100

Five-year rental subsidy: $679,000

Number of units 40

Warrensburg, MO

Non-Profit Sponsor: Bishop Boland Institute for Housing and Community

Capital Advance: $2,354,900

Five-year rental subsidy: $380,000

Number of units 23

Nebraska

Alliance, NE

Non-Profit Sponsor: The Ev Luth Gd Samar Soc

Capital Advance: $872,200

Five-year rental subsidy: $149,000

Number of units 10

Alliance, NE

Non-Profit Sponsor: The Ev Luth Gd Samar Soc

Capital Advance: $1,221,000

Five-year rental subsidy: $208,500

Number of units 14

Papillion, NE

Non-Profit Sponsor: Immanuel Health Sys

Capital Advance: $1,724,500

Five-year rental subsidy: $297,500

Number of units 20

New Hampshire

Ashland, NH

Non-Profit Sponsor: Southern New Hampshire Services, Inc.

Capital Advance: $3,774,600

Five-year rental subsidy: $482,500

Number of units 28

Littleton, NH

Non-Profit Sponsor: AHEAD

Capital Advance: $808,800

Five-year rental subsidy: $103,500

Number of units 6

Nashua, NH

Non-Profit Sponsor: AHEPA Nat'l Hsg. Corp.

Capital Advance: $5,122,600

Five-year rental subsidy: $655,000

Number of units 38

Newport, NH

Non-Profit Sponsor: Southwestern Community Services, Inc.

Capital Advance: $3,370,100

Five-year rental subsidy: $414,000

Number of units 25

New Jersey

Linden, NJ

Non-Profit Sponsor: Linden Hsg Corp

Capital Advance: $10,514,900

Five-year rental subsidy: $2,183,500

Number of units 78

New York

Bronx, NY

Non-Profit Sponsor: Metro NY Coord Council

Capital Advance: $8,737,500

Five-year rental subsidy: $2,293,000

Number of units 70

Bronx, NY

Non-Profit Sponsor: South Bronx Community Corporation

Capital Advance: $4,135,500

Five-year rental subsidy: $1,081,000

Number of units 34

Bronx, NY

Non-Profit Sponsor: The Jewish Home & Hospital Bx Division

Capital Advance: $8,986,300

Five-year rental subsidy: $2,326,000

Number of units 72

Brooklyn, NY

Non-Profit Sponsor: Common Ground Community

Capital Advance: $8,986,300

Five-year rental subsidy: $2,326,000

Number of units 72

Catskill, NY

Non-Profit Sponsor: Columbia Memorial Hospital

Capital Advance: $1,894,500

Five-year rental subsidy: $291,500

Number of units 21

Gowanda, NY

Non-Profit Sponsor: Healthy Community Alliance Inc

Capital Advance: $1,938,100

Five-year rental subsidy: $284,500

Number of units 21

Hamburg, NY

Non-Profit Sponsor: People Inc

Capital Advance: $5,077,100

Five-year rental subsidy: $664,000

Number of units 50

Staten Island, NY

Non-Profit Sponsor: Sisters of Charity of St. Vincent de Paul

Capital Advance: $7,175,500

Five-year rental subsidy: $1,933,000

Number of units 60

Wheatfield, NY

Non-Profit Sponsor: People Inc

Capital Advance: $5,077,100

Five-year rental subsidy: $664,000

Number of units 50

North Carolina

Fayetteville, NC

Non-Profit Sponsor: John H. Wellons Fnd, Inc.

Capital Advance: $4,271,800

Five-year rental subsidy: $654,000

Number of units 44

Henderson, NC

Non-Profit Sponsor: Metropolitan Hsg and CDC, Inc.

Capital Advance: $2,899,000

Five-year rental subsidy: $456,500

Number of units 30

Manson, NC

Non-Profit Sponsor: NC Senior Citizens Fed, Inc.

Capital Advance: $1,352,900

Five-year rental subsidy: $213,000

Number of units 14

Whiteville, NC

Non-Profit Sponsor: Beautiful Light Inn, Inc.

Capital Advance: $2,918,900

Five-year rental subsidy: $441,000

Number of units 30

Ohio

Ashland, OH

Non-Profit Sponsor: Lutheran Social Services of Central Ohio

Capital Advance: $1,088,200

Five-year rental subsidy: $218,000

Number of units 12

Barlow, OH

Non-Profit Sponsor: Community of Christ

Capital Advance: $2,663,300

Five-year rental subsidy: $467,000

Number of units 30

Cleveland, OH

Non-Profit Sponsor: Eliza Bryant Center

Capital Advance: $4,269,700

Five-year rental subsidy: $817,500

Number of units 45

Cleveland, OH

Non-Profit Sponsor: Famicos Foundation

Capital Advance: $569,300

Five-year rental subsidy: $109,000

Number of units 6

Dayton, OH

Non-Profit Sponsor: St. Mary Development Corporation

Capital Advance: $4,847,800

Five-year rental subsidy: $897,000

Number of units 55

Garfield Heights, OH

Non-Profit Sponsor: Humility of Mary Housing, Inc.

Capital Advance: $3,795,300

Five-year rental subsidy: $726,500

Number of units 40

Oak Harbor, OH

Non-Profit Sponsor: Lutheran Homes Society Inc

Capital Advance: $1,088,200

Five-year rental subsidy: $218,000

Number of units 12

Springfield, OH

Non-Profit Sponsor: The Franklin Foundation

Capital Advance: $2,039,200

Five-year rental subsidy: $370,500

Number of units 24

Oklahoma

Coalgate, OK

Non-Profit Sponsor: Big Five Community Services, Inc.

Capital Advance: $1,120,400

Five-year rental subsidy: $238,500

Number of units 17

Collinsville, OK

Non-Profit Sponsor: St John Villas, Inc.

Capital Advance: $2,702,300

Five-year rental subsidy: $575,000

Number of units 41

Pennsylvania

Girard, PA

Non-Profit Sponsor: The Luth Serv Soc of Western PA

Capital Advance: $3,680,400

Five-year rental subsidy: $575,500

Number of units 36

Penn Hills, PA

Non-Profit Sponsor: The Luth Serv Soc of Western PA

Capital Advance: $3,578,700

Five-year rental subsidy: $559,000

Number of units 35

Philadelphia, PA

Non-Profit Sponsor: Food For All, Inc. d.b.a. Food For Life

Capital Advance: $6,924,900

Five-year rental subsidy: $1,380,500

Number of units 63

Philadelphia, PA

Non-Profit Sponsor: Sal Army, a New York Corp

Capital Advance: $5,519,700

Five-year rental subsidy: $1,091,000

Number of units 50

Philadelphia, PA

Non-Profit Sponsor: Mount Zion Comm Dev Corp

Co-Sponsor: Deer Meadows

Capital Advance: $8,267,700

Five-year rental subsidy: $1,647,500

Number of units 75

Philadelphia, PA

Non-Profit Sponsor: PresbyHomes & Serv

Capital Advance: $7,278,400

Five-year rental subsidy: $1,447,500

Number of units 66

Puerto Rico

Naguabo, PR

Non-Profit Sponsor: Assco Puertorr de los Adven 7mo Dia Inc

Capital Advance: $3,510,600

Five-year rental subsidy: $518,500

Number of units 37

Rhode Island

Portsmouth, RI

Non-Profit Sponsor: Coastal Housing Corporation

Capital Advance: $594,600

Five-year rental subsidy: $106,000

Number of units 5

Warwick, RI

Non-Profit Sponsor: Valley Affordable Housing Corp

Capital Advance: $5,019,800

Five-year rental subsidy: $866,000

Number of units 42

South Carolina

Anderson, SC

Non-Profit Sponsor: Metropolitan Housing and CDC, Inc.

Capital Advance: $4,382,800

Five-year rental subsidy: $616,500

Number of units 44

Bennettsville, SC

Non-Profit Sponsor: John H. Wellons Fnd, Inc.

Capital Advance: $1,456,900

Five-year rental subsidy: $210,500

Number of units 15

Bennettsville, SC

Non-Profit Sponsor: John H. Wellons Fnd, Inc.

Capital Advance: $1,456,900

Five-year rental subsidy: $210,500

Number of units 15

Mullins, SC

Non-Profit Sponsor: Genesis I Community Development Corporation

Capital Advance: $1,456,900

Five-year rental subsidy: $210,500

Number of units 15

South Dakota

Brookings, SD

Non-Profit Sponsor: ASI

Capital Advance: $2,997,900

Five-year rental subsidy: $326,000

Number of units 25

Sioux Falls, SD

Non-Profit Sponsor: Ev Luth Gd Samar Soc

Capital Advance: $6,146,200

Five-year rental subsidy: $801,000

Number of units 60

Tennessee

Cleveland, TN

Non-Profit Sponsor: Douglas Cherokee Economic Authority, Inc.

Capital Advance: $948,500

Five-year rental subsidy: $154,500

Number of units 11

Livingston, TN

Non-Profit Sponsor: Douglas Cherokee Economic Authority

Capital Advance: $1,494,100

Five-year rental subsidy: $202,000

Number of units 15

McMinnville, TN

Non-Profit Sponsor: Cumberland Regional Development Corporation

Capital Advance: $1,499,500

Five-year rental subsidy: $188,500

Number of units 15

Memphis, TN

Non-Profit Sponsor: Volunteers of America of Kentucky, Inc.

Capital Advance: $4,007,200

Five-year rental subsidy: $645,000

Number of units 46

Sevierville, TN

Non-Profit Sponsor: Douglas Cherokee Economic Authority, Inc.

Capital Advance: $1,724,500

Five-year rental subsidy: $280,500

Number of units 20

Shelbyville, TN

Non-Profit Sponsor: Buffalo Valley, Inc.

Capital Advance: $1,494,100

Five-year rental subsidy: $188,500

Number of units 15

South Carthage, TN

Non-Profit Sponsor: Cumberland Regional Development Corporation

Capital Advance: $1,499,500

Five-year rental subsidy: $188,500

Number of units 15

Texas

Dallas, TX

Non-Profit Sponsor: CC Young Memorial Home Inc

Capital Advance: $4,216,500

Five-year rental subsidy: $806,000

Number of units 54

Houston, TX

Five-year rental subsidy: $1,012,000

Number of units 67

San Antonio, TX

Non-Profit Sponsor: Retirement Housing Foundation

Capital Advance: $4,065,300

Five-year rental subsidy: $753,500

Number of units 55

Waco, TX

Non-Profit Sponsor: Mercy Housing Inc

Co-Sponsor: Mercy Housing Colorado

Capital Advance: $4,208,400

Five-year rental subsidy: $821,500

Number of units 55

Utah

Price, UT

Non-Profit Sponsor: Comm Hsg Ser Inc

Capital Advance: $3,516,000

Five-year rental subsidy: $466,000

Number of units 33

Project Description:

The funds will be used for the new construction of two buildings for the very low-income elderly consisting of a total of 33 units. Some of the supportive services that will be provided are meals-on-wheels, housekeeping assistance, social activities and transportation.

Virginia

Kilmarnock, VA

Non-Profit Sponsor: Bay Aging

Capital Advance: $1,515,900

Five-year rental subsidy: $299,500

Number of units 19

Vinton, VA

Non-Profit Sponsor: Metropolitan Housing and CDC, Inc.

Capital Advance: $5,824,400

Five-year rental subsidy: $1,150,500

Number of units 73

Washington

Buckley, WA

Non-Profit Sponsor: Enumclaw Community Hospital

Capital Advance: $2,042,700

Five-year rental subsidy: $318,500

Number of units 20

Kennewick, WA

Non-Profit Sponsor: Shalom Ecumenical Center

Capital Advance: $4,008,900

Five-year rental subsidy: $722,000

Number of units 45

Spokane, WA

Non-Profit Sponsor: East Central Community Organization

Capital Advance: $2,157,200

Five-year rental subsidy: $394,000

Number of units 25

Vancouver, WA

Non-Profit Sponsor: Columbia Non-Profit Housing

Capital Advance: $5,479,700

Five-year rental subsidy: $866,500

Number of units 56

Yakima, WA

Non-Profit Sponsor: Diocese of Yakima Housing Services

Capital Advance: $3,544,700

Five-year rental subsidy: $640,000

Number of units 40

Wisconsin

Milwaukee, WI

Non-Profit Sponsor: Eternal Life Church of God in Christ

Capital Advance: $2,799,900

Five-year rental subsidy: $380,000

Number of units 24

Town of Russell, WI

Non-Profit Sponsor: Impact Seven INC

Capital Advance: $1,255,300

Five-year rental subsidy: $198,500

Number of units 12

[FR Doc. E6-18071 Filed 10-27-06; 8:45 am]

BILLING CODE 4210-67-P